DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than June 23, 2016.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Corps Community Month Event Form OMB No. 0915-0362—Extension

Abstract: Corps Community Month, formerly Corps Community Day, was created in 2011 and celebrates the National Health Service Corps (NHSC) every October. The NHSC is a program administered by the Bureau of Health Workforce (BHW) within HRSA. The goals of Corps Community Month encompass the following: Increase awareness of the NHSC to potential applicants and the greater primary health community; create a sense of community and connectedness among NHSC program participants, alumni, partners and staff; and underscore the NHSC's role in bringing primary health care services to the nation's neediest communities. Current program participants, alumni, NHSC Ambassadors, sites, primary care organizations, and professional associations plan events and report the details of their events to BHW so that they can be added to the state-by-state map of events. To avoid duplication of effort, eliminate confusion regarding allowable event dates, avoid data entry errors, and implement a brief post-event satisfaction survey, BHW would like to continue to use the standard form that event planners use to report to BHW. The fillable form is available online and has 26 fields for event planners to populate to submit for inclusion on the map. There are also approximately five fields to populate following the event to measure satisfaction. Both the pre-event and post-event data fields are held in one form.

Need and Proposed Use of the Information: The information collected is used and needed to highlight the impact of BHW and the NHSC programs in underserved and rural areas as part of outreach initiatives. Event information is captured and tracked to ensure that each HHS region is highlighted.

Likely Respondents: Current program participants, alumni, NHSC Ambassadors, sites, primary care organizations, and professional associations

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Corps Community Month Event Planning Form | 300 | 1 | 300 | .066 | 19.8
Corps Community Month Event Satisfaction | 300 | 1 | 300 | .033 | 9.9
Total | * 300 |  | * 300 |  | 29.7
* The same individuals complete both of the forms for a total of 300 respondents and responses.

Jason E. Bennett,
Director, Division of the Executive Secretariat.

[FR Doc. 2016-12146 Filed 5-23-16; 8:45 am]

BILLING CODE 4165-15-P